DEPARTMENT OF JUSTICE

Antitrust Division

Notice Pursuant to the National Cooperative Research and Production Act of 1993—The Institute of Electrical and Electronics Engineers, Inc.

Notice is hereby given that, on October 22, 2020, pursuant to Section 6(a) of the National Cooperative Research and Production Act of 1993, 15 U.S.C. 4301 et seq. (“the Act”), The Institute of Electrical and Electronics Engineers, Inc. (“IEEE”) has filed written notifications simultaneously with the Attorney General and the Federal Trade Commission disclosing additions or changes to its standards development activities. The notifications were filed for the purpose of extending the Act's provisions limiting the recovery of antitrust plaintiffs to actual damages under specified circumstances. Specifically, 59 new standards have been initiated and 20 existing standards are being revised. More detail regarding these changes can be found at: https://standards.ieee.org/about/sasb/sba/september2020.htm1.

The following pre-standards activities associated with IEEE Industry Connections Activities were launched or renewed:

Launched

IC20-010-01 Labeling Cybersecurity Data for AI Automation Single- and Multi-Modal) ICAID: https://ieee-sa.imeetcentral.com/p/eAAAAAAARVZSAAAAACKnAdk

IC20-011-01 IoT Ecosystem Security ICAID: https://ieee-sa.imeetcentral.com/p/eAAAAAAARVZXAAAAAC-ouDc

IC20-012-01 Roadmap for the Development and Implementation of Standard Oriented Knowledge Graphs ICAID: https://ieee-sa.imeetcentral.com/p/eAAAAAAARVZbAAAAAEanz6I

IC20-013-01 Rural Communication ICAID: https://ieee-sa.imeetcentral.com/p/eAAAAAAARVZcAAAAAH5fO_g

IC20-014-01 Sustainable Infrastructures and Community Development Program ICAID: https://ieee-sa.imeetcentral.com/p/eAAAAAAARVZfAAAAAGuxvmM

IC20-015-01 The IEEE Earth Lab ICAID: https://ieee-sa.imeetcentral.com/p/eAAAAAAARVZiAAAAAEfiDjE

IC20-016-01 The IEEE Global Initiative on Ethics of Extended Reality ICAID: https://ieee-sa.imeetcentral.com/p/eAAAAAAARVRDAAAAAEnRO9I

IC20-017-01 Association for Digital Transformation ICAID: https://ieee-sa.imeetcentral.com/p/eAAAAAAARVRcAAAAADDdXhs

IC20-018-01 Transforming the Telehealth Paradigm Sustainable Connectivity, Accessibility, Privacy, and Security for All ICAID: https://ieee-sa.imeetcentral.com/p/eAAAAAAARVYBAAAAABwrciI

IC20-019-01 Digital Resilience—Tools and Methods to Support Response and Recovery from Major Crises ICAID: https://ieee-sa.imeetcentral.com/p/eAAAAAAARVoFAAAAAD_xutg

Renewed

IC15-005-04 New Ethernet Applications ICAID: https://ieee-sa.imeetcentral.com/p/eAAAAAAARVYIAAAAAAKyqtk

IC18-004-02 Ethics Certification Program for Autonomous and Intelligent Systems (ECPAIS) ICAID: https://ieee-sa.imeetcentral.com/p/eAAAAAAARVYKAAAAAClIf4g

IC19-004-02 Technology and Data Harmonization for Enabling Decentralized Clinical Trials ICAID: https://ieee-sa.imeetcentral.com/p/eAAAAAAARVYLAAAAAGDt7lY

C20-003-02 AI-driven Innovation for Cities and People ICAID: https://ieee-sa.imeetcentral.com/p/eAAAAAAARVWVAAAAACu9FB8

On September 17, 2004, IEEE filed its original notification pursuant to Section 6(a) of the Act. The Department of Justice published a notice in the Federal Register pursuant to Section 6(b) of the Act on November 3, 2004 (69 FR 64105).

The last notification was filed with the Department on August 4, 2020. A notice was published in the Federal Register pursuant to Section 6(b) of the Act on August 28, 2020 (85 FR 53400).

Suzanne Morris,
Chief, Premerger and Division Statistics, Antitrust Division.

[FR Doc. 2020-25903 Filed 11-23-20; 8:45 am]

BILLING CODE 4410-11-P